DEPARTMENT OF THE INTERIOR

Geological Survey

[GX23AE38EMBOE00]

Notice of Intent To Prepare an Environmental Impact Statement for the Proposed Action for the Development of an Updated Facility for the National Wildlife Health Center in Madison, Wisconsin

AGENCY: U.S. Geological Survey, Department of the Interior.

ACTION: Notice of Intent (NOI) to prepare anenvironmental impact statement (EIS).

SUMMARY: The U.S. Geological Survey (USGS) announces its intent to prepare an EIS for the development of an updated facility for the National Wildlife Health Center (NWHC) (Proposed Action) located in Madison, Wisconsin. The EIS will be prepared consistent with the regulations implementing the National Environmental Policy Act (NEPA) of 1969, as amended in 2023; Council on Environmental Quality regulations implementing NEPA, as amended May 20, 2022; and USGS regulations implementing NEPA. This NOI announces the start of the EIS scoping process and seeks public comment on the Proposed Action. Information about the existing facility and Proposed Action can be found on the project website at: https://nwhceis.com/.

DATES: Comments concerning the scope of the environmental review and analysis for the Proposed Action must be received within 45 days from date of this NOI publication in the Federal Register to be considered for inclusion within the draft EIS. The USGS will have in-person and virtual public scoping meetings in Madison, Wisconsin, throughout the development of the Proposed Action. For this formal 45-day scoping comment period, one (1) In-person Public Meeting and one (1) Virtual Meeting are scheduled. The In-Person Meeting is scheduled for September 21, 2023, at 5:30-7:30 p.m. CST and will be held at Vel Phillips Memorial High School, 201 S Gammon Road, Madison, WI 53717. Virtual meeting dates and times can be found on the project website at https://nwhceis.com/. How to participate in these public scoping meetings and provide scoping commentsis provided under the ADDRESSES, FOR FURTHER INFORMATION CONTACT and Scoping Process of this NOI. This information is also available on the project website at https://nwhceis.com/ and will be published in local newspapers in advance of the meetings. The in-person and virtual meetings are open to the public and free to attend.

ADDRESSES: Written comments can be submitted in any of the following ways: Delivered by mail or delivery service, enclosed in an envelope labeled “NATIONAL WILDLIFE HEALTH CENTER EIS” and addressed to Jordan D. Sizemore, USGS, National Wildlife Heath Center, 606 Schroeder Road Madison, WI 53711; or by email to: Jordan D. Sizemore, by email at jsizemore@usgs.gov or by using the comment form provided on the project website at https://nwhceis.com/.

FOR FURTHER INFORMATION CONTACT: Jordan D. Sizemore, Environmental Protection Specialist, Environmental Management Branch, USGS, NWHC 606 Schroeder Road, Madison, WI 53711, telephone (360) 929-0783, or email jsizemore@usgs.gov.

SUPPLEMENTARY INFORMATION:

Background

The NWHC was established in 1975 in Madison, Wisconsin, as the first biomedical laboratory dedicated to assessing the impact of disease on wildlife and identifying the role of various pathogens in contributing to wildlife losses. It remains the only national center devoted to wildlife disease detection, control, and prevention in the United States. The emergence of wildlife diseases has become a high-priority concern in the United States and the world. In addition to their harmful effects on natural wildlife populations and ecosystems, there is the potential for the spread of zoonotic diseases to humans and for causing economic losses associated with livestock morbidity and mortality. The NWHC is responsible for providing research and for investigating and responding to known and emerging wildlife diseases and wildlife mortality outbreaks throughout the United States. The NWHC has been providing vital disease- and pathogen-detection services, active disease surveillance, and applied research to help understand, detect, respond to, and manage wildlife diseases on the landscape for more than 40 years. Some of these diseases include Chronic Wasting Disease, West Nile Virus, Newcastle disease, salmonellosis, and avian influenza.

The NWHC is located on a 24-acre tract of federal property which, along with a vacant building, was originally acquired by the U.S. Fish and Wildlife Service (USFWS) in 1978 to consolidate USFWS expertise into a single program and provide a permanent facility for the NWHC. The Main Building on the property was originally constructed in the 1960's and renovated in 1982. A second building, the Tight Isolation Building (TIB), was constructed in 1985 and modified in 1989. Other small structures are also on the property including a maintenance garage and a modular building added in the 2000's and used as employee offices. Portions of the property not occupied by buildings, access and service driveways, and parking areas were restored to native prairie in 1988. An interpretive nature trail was developed through the prairie and adjacent wooded area on the property and is actively visited by the public.

In 1996, the NWHC was transferred from the USFWS to the USGS where it is one of many entities providing independent science supporting sound management of the nation's natural resources. The USGS, created by Congress in 1879, is an agency of the federal government where scientists study the nation's landscape, its natural resources, and the natural hazards that threaten it. The USGS is also a research organization whose work spans biology, geography, geology, and hydrology.

The Main Building contains a necropsy laboratory and associated disease diagnostic laboratories; general support laboratories for biological media and reagent preparation, glassware preparation and other special-use areas; a physical plant including an incinerator for inactivation of biohazardous waste; and administrative support areas with conference rooms, staff offices, data processing and records areas. A photovoltaic system used to generate electricity, along with other conservation measures, are employed to reduce energy consumption and control operational costs.

The TIB is located approximately 150 feet northeast of the Main Building, and while the buildings are physically separated, there is not a complete separation of functions, with researchers working in both buildings. The TIB contains specialized research laboratories and support areas, staff offices for investigators, and Bio Safety Level 3 (BSL-3) bio-containment animal research areas. The animal isolation wing is self-contained and includes equipment and special-use areas to clean cages and glassware, to incinerate bio-hazardous waste, and to conduct necropsies. Entry into the area requires use of specialized clothing and footwear, changes of clothing and footwear for each room entered, and depending on the pathogens present within the facility, a mandatory shower upon exit from the room or facility level.

The NWHC provides information, technical assistance, and research on national and international wildlife health issues. It also monitors and assesses the impact of disease on wildlife populations; defines ecological relationships leading to the occurrence of disease; transfers technology for disease prevention and control; and provides guidance, training, and assistance for reducing wildlife losses. As a Level 3 Security Facility under the U.S. Department of Justice Standards for Federal Facilities, the NWHC is required to operate under criteria established by the National Institutes of Health and the Centers for Disease Control and Prevention for BSL-3) containment.

The NWHC functions as an integrated program involving disease diagnosis, field response to disease outbreaks, research, animal welfare, and training of others in disease identification and control. Collaboration is conducted with, and technical assistance is provided to a wide variety of agencies and organizations within the federal, state, and private sectors. This has resulted in an extensive network of interaction with the NWHC being the focal point for information, technical assistance, and research on wildlife health issues.

Purpose of and Need for the Proposed Action

The purpose of the Proposed Action is to update the aging NHWC facility, incorporating technological advances in biosafety engineering and equipment as well as adding additional space for enhanced animal care and research. The NHWC needs a modern facility with sufficient space and modern technologies to support their mission-essential research. Starting in 2008, the USGS conducted multiple studies of the current facility to identify where efficiencies could benefit Center operations. These studies are available on the project website at https://nwhceis.com/. While safe operation requirements continue to be maintained, the study findings identified over-crowded laboratories and administrative areas; inefficient infrastructure (e.g., heating, ventilation, and air conditioning systems) that do not meet current standards for energy efficiency; and extensive wear and tear due to the age of the buildings and associated equipment.

Consistent with follow-on studies conducted in 2011 and 2016 (provided on the project website at https://nwhceis.com/), proactive efforts had been made to repair systems and facilities. However, as is typical with repairs of older equipment and infrastructure, these efforts provide only short-term relief so were focused only on those necessary for maintaining safe operations. Additionally, major repairs have involved replacing systems like-for-like, as other limitations of the aging buildings prevent full updating of major infrastructure.

Previous studies indicated that continuing to update the facility to meet the mission and function of the NWHC is limited and costly. This has resulted in the need for a more cost-effective solution to maintain administrative, operational, health, and safety standards and requirements as well as provide the spaces needed to conduct research into wildlife disease detection, additional space for enhanced animal-care conditions, and other programs that support the mission of the NWHC. In addition, there is the need to incorporate modern laboratory equipment, mechanical systems, the latest technologies and the latest operating and management approaches, all of which will further enhance the NWHC's capability to reduce exposure to pathogens and the risks faced by staff and public. In order to meet future sustainability goals and become a more energy-efficient facility, the USGS will apply advanced approaches, materials, and equipment that are sustainable and resilient against the hazards associated with climate change and optimize the cost of operation by applying innovative designs, quality construction, highly efficient air handling, mechanical, electrical, and plumbing systems, and facility maintenance programs to achieve and maintain peak performance standards.

Proposed Action and Preliminary Alternatives

The USGS proposes developing a NWHC that can meet the agency's current and future needs, streamline delivery of research, improve worker- and public safety with modern biohazard and pathogen containment and biological-waste disposal, and control operating costs. The EIS will use information from previous studies, identify alternatives that avoid and (or) minimize impacts to the environment, and evaluate alternatives that are technically and economically feasible. Alternatives currently identified for the Proposed Action include, but will not be limited to, a decision not to proceed with the Proposed Action (i.e., the No Action Alternative) and build new facilities for the NWHC. The alternative to build new facilities for the NWHC. (i.e., New NWHC Alternative) is currently preferred by the USGS.

The New NWHC Alternative proposes constructing new facilities on the grounds of the NWHC in Madison, Wisconsin, and demolishing the existing facilities over an approximately three-year period. A new NWHC would contain administrative offices; BSL2 and BSL3 laboratories; vivarium with Animal Biosafety Level-2 (ABSL-2, ABSL-3) and Biosafety Level 3 Agriculture (BSL3-AG) capabilities; and necessary support spaces, including improved internal service driveways and parking to accommodate visitors, students, government vehicles, and staff; modern systems for biological waste disposal; a utility yard containing emergency generators; energy-efficient lighting along internal walkways and parking areas; and modern containment (i.e., facilities and equipment to safely manage biohazardous materials in a laboratory) within NWHC laboratories to protect staff from exposures to biological agents and hazardous chemicals, the escape of harmful pathogens, contamination of assay systems, reagents, and other materials, and cross-contamination between investigations.

Summary of Potential Impacts

The Draft EIS will identify, describe, and analyze the potential effects of the Proposed Action on the environment that are reasonably foreseeable and have a relationship to the Proposed Action. This includes effects that occur at the same time and place as the Proposed Action and effects caused by the Proposed Action that occur at a later in time or in a different place. Resources potentially impacted (whether beneficial or adverse) include, but are not limited to, land use; traffic; utility services, community services; topography, geology, and soils; air quality; noise; cultural resources; water resources, biological resources, and threatened and endangered species; demographics, employment, and local economics; environmental justice; and visual resources (i.e., natural landforms, vegetation). The EIS will also analyze measures that would avoid, minimize, or mitigate identified adverse impacts of proposed alternatives.

Anticipated Permits and Authorizations

The Proposed Action has the potential to significantly affect the quality of the human environment. The USGS shall comply with NEPA by preparing an EIS to ensure that the potential environmental consequences of such an action are adequately taken into account prior to making a decision. This includes ensuring that the potential environmental impacts associated with the Proposed Action are minimized, documented, that required permits are obtained, and all applicable environmental statutes are followed including but not limited to: Clean Air Act of 1974 and state required air permits; Clean Water Act and Amendment and 401 authorizations and 404 permits; stormwater and National Pollutant Discharge Elimination System permits; Hazardous Waste permits; consultations under section 7 of Endangered Species Act of 1973; the National Historic Preservation Act of 1966 (NHPA); Farmland Protection Policy Act, among other laws, regulations and Executive Orders. USGS will also conduct government-to-government Tribal consultations consistent with Executive order 13175, Presidential priorities, and Departmental policies, including 516 Departmental Manual (DM) 5.

The USGS will use the NEPA process to support compliance with consistent applicable procedural requirements under Section 106 of NHPA (54 U.S.C. 306108) as provided in 36 CFR 800.3(b)(3), including public involvement requirements of Section 106. Historical and culture resources information gathered during the public participation and Section 106 consultation processes will be used to identify the potential impacts to cultural resources within the Proposed Action's area of potential effect.

Schedule for the Decision-Making Process

Agency coordination and public participation, including scheduled public meetings and workshops throughout the decision-making process, will be a key part of identifying potential impacts for this project. Upon completion of a Draft EIS, the USGS will publish a Notice of Availability (NOA) initiating a formal public comment period lasting no less than 45 days, during which time one more public meeting will be held. The notice will include information about the date, time, and location of the public meeting, the means to examine the Draft EIS, and opportunities and methods for the public to provide comments on the Proposed Action and Draft EIS. The USGS currently expects to issue the NOA in Winter 2023. After the public comment period ends, the USGS will review and address the comments as part of preparing the Final EIS. The USGS currently expects to make the Final EIS available to the public in Summer 2024. A Record of Decision (ROD) will be completed no sooner than 30 days after the Final EIS is released, in accordance with 40 CFR 1506.11.

Scoping Process

This NOI commences the public scoping process to identify issues and potential alternatives for consideration in the Draft EIS. The USGS will hold two in-person and one virtual public scoping meeting in Madison, Wisconsin. The In-Person Meeting is scheduled for September 21, 2023, at 5:30-7:30 p.m. CST and will be held at Vel Phillips Memorial High School, 201 S Gammon Road, Madison, WI 53717. Virtual meeting dates and times can be found on the project website listed below. Information regarding the scoping process and how to participate in the public scoping meetings and provide scoping comments is also available on the project website at https://nwhceis.com/. Opportunities for members of the public to be involved in the NEPA process are also described on the project website. Throughout the scoping process, Federal agencies, Tribal, State, and local governments, and the general public have the opportunity to help the USGS identify significant resources and issues, impact-producing factors, reasonable alternatives, and potential mitigation measures to be analyzed in the EIS, as well as to provide additional related information.

Public Comments

Federal agencies, Tribal, State, and local governments, and other interested parties are requested to comment on the scope of the EIS, significant issues that should be addressed, and alternatives that should be considered. For information on how to submit comments, see the ADDRESSES section above. The USGS does not consider anonymous comments. Please include your name, address, and email as part of your comment. The USGS makes all comments, including the names, addresses, and other personally identifiable information (PII) included in the comment, available for public review online. Individuals can request that the USGS withhold their PII from the public record; however, the USGS cannot guarantee that it will be able to do so.

Additionally, under section 304 of the NHPA, the USGS is required, after consultation with the Secretary of the Interior, to withhold the location, character, or ownership of historic resources if it determines that disclosure may, among other things, cause a significant invasion of privacy, risk harm to the historic resources, or impede the use of a traditional religious site by practitioners. Tribal entities and other parties providing information on historic resources should designate information that they wish to be held as confidential and provide the reasons why the USGS should do so. All submissions from organizations or agencies and from individuals identifying themselves as representatives or officials of organizations or agencies will be made available for public inspection in their entirety.

Request for Identification and Public Comment on Potential Alternatives, Information, and Analyses Relevant to the Proposed Action

The USGS requests data, comments, concerns, information, analysis, alternatives, or suggestions relevant to the Proposed Action from the public; affected Federal, Tribal, State, and local governments, agencies, and offices; the scientific community; industry; or any other interested party. Specifically, the USGS requests information on the following topics:

Potential effects that the Proposed Action could have on physical resources and conditions including biological resources, air quality, hydrology, wetlands, and other waters of the United States.

1. Potential effects that the Proposed Action could have on socioeconomic and cultural resources, including demographics, employment, economics, environmental justice, land use, utility services, traffic, and aesthetic and visual resources.

2. Other possible reasonable alternatives to the Proposed Action that the USGS should consider, including additional alternatives.

3. As part of its compliance with NHPA section 106 and its implementing regulations (36 CFR part 800), the USGS seeks comment and input from the public regarding the identification of historic properties within the Proposed Action's area of potential effects defined in a cultural resources study available on the project website at https://nwhceis.com/, the potential effects on those historic properties from the Proposed Action, and any information that supports identification of historic properties under the NHPA. The USGS also solicits proposed measures to avoid, minimize, or mitigate any adverse effects on historic properties. The USGS's effects analysis for historic properties will be available for public- and consulting-party comment in the Draft EIS.

4. Information on other current or planned activities in, or in the vicinity of, the Proposed Action, their possible impacts on the Proposed Action, and the Proposed Action's possible impacts on those activities.

5. Other information relevant to the Proposed Action and its potential impacts on the environment.

To promote informed decision-making, comments should be as specific as possible and should provide as much detail as necessary to meaningfully and fully inform the USGS of the commenter's position. Comments should explain why the issues raised are important to the consideration of potential environmental impacts and possible alternatives to the Proposed Action as well as to economic, employment, and other impacts affecting the quality of the human environment.

The Draft EIS will include a summary of information submitted during the scoping process for consideration by the USGS with the alternatives and environmental analyses of the proposed action.

Charise White,
Acting Center Director, National Wildlife Health Center, U.S. Geological Survey.

[FR Doc. 2023-19055 Filed 9-1-23; 8:45 am]

BILLING CODE 4388-11-P